DEPARTMENT OF THE INTERIOR

National Park Service

[NPS-WASO-NAGPRA-NPS0026439; PPWOCRADN0-PCU00RP14.R50000]

Notice of Inventory Completion: Fowler Museum at the University of California Los Angeles, Los Angeles, CA; Correction

AGENCY: National Park Service, Interior.

ACTION: Notice; correction.

SUMMARY: The Fowler Museum at the University of California Los Angeles (UCLA) has corrected an inventory of human remains and associated funerary objects, published in a Notice of Inventory Completion in the Federal Register on January 27, 2016. This notice corrects the minimum number of individuals and associated funerary objects. Lineal descendants or representatives of any Indian Tribe or Native Hawaiian organization not identified in this notice that wish to request transfer of control of these human remains and associated funerary objects should submit a written request to the Fowler Museum at UCLA. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Fowler Museum at UCLA at the address in this notice by November 19, 2018.

ADDRESSES: Wendy G. Teeter, Ph.D., Fowler Museum at UCLA, Box 951549, Los Angeles, CA 90095-1549, telephone (310) 825-1864, email wteeter@arts.ucla.edu.

SUPPLEMENTARY INFORMATION: Notice is here given in accordance with the Native American Graves Protection and Repatriation Act (NAGPRA), 25 U.S.C. 3003, of the correction of an inventory of human remains and associated funerary objects under the control of the Fowler Museum at UCLA, Los Angeles, CA. The human remains and associated funerary objects were removed from Los Angeles and Santa Barbara Counties, CA.

This notice is published as part of the National Park Service's administrative responsibilities under NAGPRA, 25 U.S.C. 3003(d)(3). The determinations in this notice are the sole responsibility of the museum, institution, or Federal agency that has control of the Native American human remains. The National Park Service is not responsible for the determinations in this notice.

This notice corrects the minimum number of individuals and associated funerary objects published in a Notice of Inventory Completion in the Federal Register (81 FR 4662-4670, January 27, 2016). A re-inventory discovered more human remains and associated funerary objects than was previously recorded. Transfer of control of the items in this correction notice has not occurred.

Correction

In the Federal Register (81 FR 4663, January 27, 2016), column 2, paragraph 4, sentence 1 is corrected by substituting the following sentence:

At an unknown date between 1900 and 1950, human remains representing, at minimum, 26 individuals were removed from Sequit Creek Indian Mound (CA-LAN-52) in Los Angeles County, CA.

In the Federal Register (81 FR 4663, January 27, 2016), column 2, paragraph 4, sentence 5 is corrected by substituting the following sentence:

The fragmentary human remains represent 20 adult individuals, sex unknown, one sub-adult individual (sex unknown), three juvenile individuals (sex unknown) and two infant individuals (sex unknown).

In the Federal Register (81 FR 4663, January 27, 2016), column 2, paragraph 4, sentence 7 is corrected by substituting the following sentence:

The two associated funerary objects include two unmodified faunal bones.

In the Federal Register (81 FR 4667, January 27, 2016), column 3, paragraph 2, sentence 1 is corrected by substituting the following sentence:

At an unknown date, human remains representing, at minimum, four individuals were removed from San Miguel Island (CA-SMI-xxx) in Santa Barbara County, CA, from private ranching land, likely in the 1920s, by Dr. Guy C. Rich and given to Loye Miller of the UCLA Biology Department and accessioned within the Dickey Bird and Mammal Collection.

In the Federal Register (81 FR 4667, January 27, 2016), column 3,paragraph 2, sentence 5 is corrected by substituting the following sentence:

The fragmentary human remains represent four individuals of unknown age and sex.

In the Federal Register (81 FR 4670, January 27, 2016), column 2, paragraph 2, sentence 1 is corrected by substituting the following sentence:

• Pursuant to 25 U.S.C. 3001(9), the human remains described in this notice represent the physical remains of 1,827 individuals of Native American ancestry.

In the Federal Register (81 FR 4670, January 27, 2016), column 2, paragraph 2, sentence 2 is corrected by substituting the following sentence:

• Pursuant to 25 U.S.C. 3001(3)(A), the 46,017 objects described in this notice are reasonably believed to have been placed with or near individual human remains at the time of death or later as part of the death rite or ceremony.

Additional Requestors and Disposition

Lineal descendants or representatives of any Indian Tribe or Native Hawaiian organization not identified in this notice that wish to request transfer of control of these human remains and associated funerary objects should submit a written request with information in support of the request to Wendy G. Teeter, Ph.D., Fowler Museum at UCLA, Box 951549, Los Angeles, CA 90095-1549, telephone (310) 825-1864, email wteeter@arts.ucla.edu, by November 19, 2018. After that date, if no additional requestors have come forward, transfer of control of the human remains and associated funerary objects to Santa Ynez Band of Chumash Mission Indians of the Santa Ynez Reservation, California may proceed.

The Fowler Museum is responsible for notifying the Santa Ynez Band of Chumash Mission Indians of the Santa Ynez Reservation, California that this notice has been published.

Dated: September 6, 2018.
Melanie O'Brien,
Manager, National NAGPRA Program.

[FR Doc. 2018-22790 Filed 10-18-18; 8:45 am]

BILLING CODE 4312-52-P